DEPARTMENT OF HOMELAND SECURITY

U.S. Customs and Border Protection

New Dates for the April and October 2021 Customs Broker's License Examinations

AGENCY: U.S. Customs and Border Protection, Department of Homeland Security.

ACTION: General notice.

SUMMARY: This document announces that U.S. Customs and Border Protection has changed the dates on which the semi-annual examination for an individual broker's license will be held in April and October 2021.

DATES: The customs broker's license examination scheduled for April 2021 will be held on Wednesday, April 21, 2021, and the customs broker's license examination scheduled for October 2021 will be held on Thursday, October 21, 2021.

FOR FURTHER INFORMATION CONTACT: Melba Hubbard, Acting Director, Commercial Operations, Revenue and Entry, Office of Trade, (202) 325-6986, or brokermanagement@cbp.dhs.gov.

SUPPLEMENTARY INFORMATION:

Background

Section 641 of the Tariff Act of 1930, as amended (19 U.S.C. 1641), provides that a person (an individual, corporation, association, or partnership) must hold a valid customs broker's license and permit in order to transact customs business on behalf of others, sets forth standards for the issuance of brokers' licenses and permits, and provides for the taking of disciplinary action against brokers that have engaged in specified types of infractions. This section also provides that an examination may be conducted to assess an applicant's qualifications for a license.

The regulations issued under the authority of section 641 are set forth in Title 19 of the Code of Federal Regulations, part 111 (19 CFR part 111). Part 111 sets forth the regulations regarding the licensing of, and granting of permits to, persons desiring to transact customs business as customs brokers. These regulations also include the qualifications required of applicants and the procedures for applying for licenses and permits. Section 111.11 of the CBP regulations (19 CFR 111.11) sets forth the basic requirements for a broker's license, and in paragraph (a)(4) of that section provides that an applicant for an individual broker's license must attain a passing grade (75 percent or higher) on the examination.

Section 111.13 of the CBP regulations (19 CFR 111.13) sets forth the requirements and procedures for the examination for an individual broker's license and states that the customs broker's license examinations will be given on the fourth Wednesday in April and October unless the regularly scheduled examination date conflicts with a national holiday, religious observance, or other foreseeable event.

Due to the limited availability of testing sites caused by state and local restrictions during the COVID-19 pandemic, CBP has changed the regularly scheduled dates of the examination. This document announces that CBP has scheduled the April 2021 customs broker's license examination for Wednesday, April 21, 2021, and the October 2021 customs broker's license examination for Thursday, October 21, 2021.

Dated: December 27, 2020.
Cynthia F. Whittenburg,
Acting Executive Assistant Commissioner, Office of Trade.

[FR Doc. 2020-28966 Filed 12-30-20; 8:45 am]

BILLING CODE 9111-14-P